DEPARTMENT OF TRANSPORTATION

Federal Highway Administration

Environmental Impact Statement: St. Louis County, Missouri

AGENCY: Federal Highway Administration (FHWA), DOT.

ACTION: Notice of intent.

SUMMARY: The FHWA is issuing this notice to advise the public that an environmental impact statement (EIS) will be prepared for improvements to the corridor generally following the existing pathway created by Missouri Bottom Road, Aubuchon Road, and Charbonier Road between Earth City Expressway and Howdershell/Shackelford Road in northwestern St. Louis County, Missouri. These roads lie within the floodplain of the Missouri River. The hydrological conditions of the area create a situation where short-term flood-related closures occur along this pathway. The occurrence and length of closures are often difficult to predict; the detours caused by the closures are often lengthy.

FOR FURTHER INFORMATION CONTACT: Ms. Peggy J. Casey, Program Development Team Leader, FHWA Division Office, 3220 West Edgewood, Suite H, Jefferson City, MO 65109, Telephone: (573) 636-7104; or Mr. David Nichols, Chief Engineer, Missouri Department of Transportation, P.O. Box 270, Jefferson City, MO 65102, Telephone: (573) 751-4586. Questions may also be directed to the Local Public Agency sponsor by contacting Mr. Adam Spector, Transportation Studies Project Manager, St. Louis County Department of Highways and Traffic, 121 S. Meramec Avenue, Clayton, Missouri 63105, Telephone: (314) 615-8594.

SUPPLEMENTARY INFORMATION: The FHWA, in cooperation with the Missouri Department of Transportation (MoDOT) and St Louis County Department of Highways and Traffic (County), will prepare an EIS for a proposed roadway project in St. Louis County, Missouri. A location study will run concurrently with the preparation of the EIS and will provide definitive alternatives for evaluation in the EIS. The EIS will fully analyze the issues, problems, and potential social and environmental impacts associated with improving transportation within this portion of St. Louis County. The goals of the proposed action are to: (1) Eliminate flood-related detours between Charbonier Road and Earth City Expressway, (2) address capacity needs in northwestern St. Louis County, (3) enhance safety along roadways in northwestern St. Louis County, and (4) provide access to the economic opportunities in northwestern St. Louis County. The project study area is generally bounded by the Missouri River on the north and west, Route 370 on the south, and Howdershell/Shackelford Road on the east.

Alternatives under consideration include (1) taking no action; (2) reconstruction/improvements along the existing alignment; and (3) new alignments.

To date, preliminary information has been issued to local officials. As part of the project scoping process, an interagency coordination meeting will be held with appropriate federal, state, and local agencies having jurisdiction or having specific expertise with respect to any environmental impacts associated with the proposed improvements. Agencies with jurisdiction by law will be asked to become cooperating agencies. Other agencies with interest in the project will be invited to become participating agencies. In addition, informational meetings with the public and community representatives will be held to solicit input on the project and reasonable range of alternatives. A location public hearing will be held to present the findings of the Draft EIS (DEIS). Public notice will be given announcing the time and place of all public meetings and the hearing. The DEIS will be available for public and agency review and comment prior to the public hearing.

To ensure that the full range of issues related to this proposed action is addressed and all significant issues are identified, comments and suggestions are invited from all interested parties. Comments or questions concerning this proposed action and the EIS should be directed to the FHWA or MoDOT, or the St. Louis County Department of Highways and Traffic at the addresses provided above.

(Catalog of Federal Domestic Assistance Program Number 20.205, Highway Planning and Construction. The regulations implementing Executive Order 12372 regarding intergovernmental consultation on Federal programs and activities apply to this program.)

Issued on: September 7, 2011.
Peggy J. Casey,
Program Development Team Leader, Jefferson City.

[FR Doc. 2011-23301 Filed 9-12-11; 8:45 am]

BILLING CODE 4910-22-P